DEPARTMENT OF COMMERCE

National Oceanic and Atmospheric Administration

RIN 0648-XD560

Marine Mammals; File No. 18208

AGENCY: National Marine Fisheries Service (NMFS), National Oceanic and Atmospheric Administration (NOAA), Commerce.

ACTION: Notice; issuance of permit.

SUMMARY: Notice is hereby given that a permit has been issued to Randy Sacco, Ph.D., Ruminant Diseases and Immunology Research Unit, National Animal Disease Center, 1920 Dayton Road, P.O. Box 70, Ames, IA 50010, to receive cell line specimens of Atlantic spotted (Stenella frontalis), Atlantic bottlenose (Tursiops truncatus), and common (Delphinus delphis) dolphin for scientific research purposes.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Jennifer Skidmore, (301) 427-8401.

SUPPLEMENTARY INFORMATION: On October 28, 2014, notice was published in the Federal Register (70 FR 64174) that a request for a permit to receive cell line specimens from the species identified above for scientific research purposes had been submitted by the above-named applicant. The requested permit has been issued under the authority of the Marine Mammal Protection Act of 1972, as amended (16 U.S.C. 1361 et seq.), and the regulations governing the taking and importing of marine mammals (50 CFR part 216).

The permit authorizes the applicant to receive cell lines from up to two Atlantic spotted, three Atlantic bottlenose, and three common dolphins to study mechanisms whereby respiratory pathogens alter dolphin anti-viral or cytokine/chemokine responses using a parainfluenza virus isolated from a bottlenose dolphin. The objective is to provide information on how influenza viruses affect dolphins and potentially induce disease. Cell lines will be obtained from the American Type Culture Collection or other permitted researchers authorized to maintain cell lines, and would be analyzed at the National Animal Disease Center in Ames, IA. The permit is valid for 5 years from the date of issuance.

In compliance with the National Environmental Policy Act of 1969 (42 U.S.C. 4321 et seq.), a final determination has been made that the activity proposed is categorically excluded from the requirement to prepare an environmental assessment or environmental impact statement.

Dated: August 24, 2015.
Julia Harrison,
Chief, Permits and Conservation Division, Office of Protected Resources, National Marine Fisheries Service.

[FR Doc. 2015-21961 Filed 9-3-15; 8:45 am]

BILLING CODE 3510-22-P